DEPARTMENT OF COMMERCE

National Oceanic and Atmospheric Administration

RIN 0648-XF159

Mid-Atlantic Fishery Management Council (MAFMC); Public Meetings

AGENCY: National Marine Fisheries Service (NMFS), National Oceanic and Atmospheric Administration (NOAA), Commerce.

ACTION: Notice of a public meeting.

SUMMARY: The Mid-Atlantic Fishery Management Council (Council) will hold public meetings of the Council and its Committees.

DATES: The meeting will be held on Tuesday, February 14 through Thursday, February 16, 2017. For agenda details, see SUPPLEMENTARY INFORMATION.

ADDRESSES: The meetings will be held at: Hilton Garden Inn Kitty Hawk, 5353 N. Virginia Dare Trail, Kitty Hawk, NC 27949, telephone: (252) 261-1290.

Council address: Mid-Atlantic Fishery Management Council, 800 N. State Street, Suite 201, Dover, DE 19901; telephone: (302) 674-2331 or on their Web site at www.mafmc.org.

FOR FURTHER INFORMATION CONTACT: Christopher M. Moore, Ph.D., Executive Director, Mid-Atlantic Fishery Management Council, telephone: (302) 526-5255.

SUPPLEMENTARY INFORMATION: The following items are on the agenda, though agenda items may be addressed out of order (changes will be noted on the Council's Web site when possible).

Agenda

Tuesday, February 14, 2017

River Herring/Shad Committee Meeting

Discuss criteria to assess progress in river herring/shad conservation

Mackerel, Squid, and Butterfish Meeting as a Committee of the Whole

Review and approve public hearing document Squid Amendment

Law Enforcement Report

Presentation on National Marine Sanctuary Nomination Process

Wednesday, February 15, 2017

Meeting with the Atlantic States Marine Fisheries Commission's Summer Flounder, Scup, and Black Sea Bass Boards

62nd Northeast Regional Stock Assessment Workshop (62nd SAW)

Overview of black sea bass benchmark stock assessment findings and peer review panelist findings

Black Sea Bass 2017-2019 Specifications

Overview and staff recommendation, SSC recommendation, review Monitoring Committee and Advisory Panel recommendations, and adopt recommendations for 2017-2019

Black Sea Bass Research Update

Black Sea Bass Recreational Specifications

Review Monitoring Committee and Advisory Panel recommendations, adopt recommendations for 2017 management measures, review Recreational Working Group recommendations and regional/state proposals (possible Board action)

Black Sea Bass Commercial AM Framework

Review background, issues, and draft alternatives

Summer Flounder Amendment

Update on progress and timeline

Thursday, February 16, 2017

Business Session

The day will conclude with brief reports from the National Marine Fisheries Service's GARFO and the Northeast Fisheries Science Center, NOAA's Office of General Counsel, the ASMFC, the New England and South Atlantic Fishery Council's liaisons and the Regional Planning Body Report. The Council will also receive the Council's Executive Director's Report, the Science Report, Committee Reports, and discuss any continuing and/or new business.

Although other non-emergency issues not contained in this agenda may come before this Council for discussion, those issues may not be the subjects of formal action during this meeting. Council action will be restricted to those issues specifically listed in this notice and any issues arising after publication of this notice that require emergency action under section 305(c) of the Magnuson-Stevens act, provided that the public has been notified of the Council's intent to take final action to address the emergency.

Special Accommodations

This meeting is physically accessible to people with disabilities. Requests for sign language interpretation or other auxiliary aids should be directed to M. Jan Saunders, (302) 526-5251, at least 5 days prior to the meeting date.

Dated: January 10, 2017.
Jeffrey N. Lonergan,
Acting Deputy Director, Office of Sustainable Fisheries, National Marine Fisheries Service.

[FR Doc. 2017-00737 Filed 1-12-17; 8:45 am]

BILLING CODE 3510-22-P